ENVIRONMENTAL PROTECTION AGENCY

[FRL-7123-4]

Project Work Plan for Revised Air Quality Criteria for Ozone and Related Photochemical Oxidants

AGENCY: Environmental Protection Agency (EPA).

ACTION: Notice of availability of external review draft.

SUMMARY: This notice announces the availability of the External Review Draft of a document, Project Work Plan for Revised Air Quality Criteria for Ozone and Related Photochemical Oxidants, NCEA-R-1068, prepared by the Office of Research and Development of the U.S. Environmental Protection Agency (EPA). The purpose of this document is to describe the managerial procedures for revising EPA's Air Quality Criteria for Ozone and Related Photochemical Oxidants, EPA/600/P-93/004aF,bF,cF, July 1996. This External Review Draft of the Project Work Plan will be reviewed by the Clean Air Scientific Advisory Committee (CASAC) of EPA's Science Advisory Board and will be revised in light of CASAC's review and comments received from the general public. Information on the date and location of the CASAC public review meeting (likely in March 2002) will be published in a future Federal Register notice. The plan may be modified and amended from time to time, as necessary, to reflect actual project requirements and progress. As a result, any proposed schedules and outlines, or any lists of technical coordinator assignments, authors, or reviewers are subject to change.

DATES: Anyone who wishes to comment on this document may do so in writing by February 15, 2002.

ADDRESSES: To obtain a copy of the Project Work Plan for Revised Air Quality Criteria for Ozone and Related Photochemical Oxidants (External Review Draft), NCEA-R-1068, contact Diane H. Ray, National Center for Environmental Assessment-RTP Office (MD-52), U.S. Environmental Protection Agency, Research Triangle Park, NC 27711; telephone: 919-541-3637; facsimile: 919-541-1818; E-mail: ray.diane@epa.gov. Internet users may obtain a copy from the EPA's National Center for Environmental Assessment (NCEA) home page. The URL is http://www.epa.gov/ncea/.

Send the written comments to the Project Manager for Ozone Project Work Plan, National Center for Environmental Assessment-RTP Office (MD-52), U.S. Environmental Protection Agency, Research Triangle Park, NC 27711.

FOR FURTHER INFORMATION CONTACT: Mr. James Raub, National Center for Environmental Assessment-RTP Office (MD-52), U.S. Environmental Protection Agency, Research Triangle Park, NC 27711; telephone: 919-541-4157; facsimile: 919-541-1818; E-mail: raub.james@epa.gov.

Dated: December 20, 2001.
George W. Alapas,
Acting Director, National Center for Environmental Assessment.

[FR Doc. 01-32089 Filed 12-28-01; 8:45 am]

BILLING CODE 6560-50-P